DEPARTMENT OF COMMERCE

National Oceanic and Atmospheric Administration

50 CFR Part 622

[I.D. 031201C]

Fisheries of the Caribbean, Gulf of Mexico, and South Atlantic; Shrimp Fishery off the Southern Atlantic States; Closure of the Penaeid Shrimp Fisheries off South Carolina and Georgia

AGENCY: National Marine Fisheries Service (NMFS), National Oceanic and Atmospheric Administration (NOAA), Commerce.

ACTION: Closure of the penaeid shrimp fisheries in the exclusive economic zone (EEZ) off South Carolina and Georgia.

SUMMARY: NMFS closes the trawl fishery for penaeid shrimp, i.e., brown, pink, and white shrimp, in the EEZ off South Carolina and Georgia. This closure action is taken in accordance with the procedures and criteria specified in the Fishery Management Plan for the Shrimp Fishery of the South Atlantic Region (FMP) and its implementing regulations and is intended to protect the spawning stock of white shrimp that has been severely depleted by unusually cold weather conditions.

DATES: The closure is effective March 13, 2001 until the effective date of a notification of opening which will be published in the Federal Register.

FOR FURTHER INFORMATION CONTACT: Dr. Steve Branstetter, 727-570-5305; fax: 727-570-5583; e-mail: Steve.Branstetter@noaa.gov.

SUPPLEMENTARY INFORMATION: The commercial penaeid shrimp fishery in the South Atlantic Region is managed under the FMP. The FMP was prepared by the South Atlantic Fishery Management Council (Council) and is implemented under the authority of the Magnuson-Stevens Fishery Conservation and Management Act (Magnuson-Stevens Act) by regulations at 50 CFR part 622.

The FMP and implementing regulations at 50 CFR 622.35(d) provide the procedures, criteria, and authority for a concurrent closure of the EEZ adjacent to South Atlantic states that have closed their waters to harvest of brown, pink, and white shrimp to protect the white shrimp spawning stock that has been severely depleted by cold weather. Consistent with those procedures and criteria, the states of Georgia and South Carolina have determined, based on standardized assessments, that unusually cold temperatures have resulted in at least an 80-percent reduction of the white shrimp populations in their respective state's waters. Both states have closed their waters to the harvest of brown, pink, and white shrimp and have requested that the Council recommend that NMFS implement a concurrent closure of the EEZ off Georgia and South Carolina. The Council convened a review panel to evaluate the data supporting the states' requests. Based on the review panel's recommendation, the Council approved the states' requests and requested that NMFS concurrently close the EEZ off Georgia and South Carolina to the harvest of brown, pink, and white shrimp. NMFS has determined that the recommended closure conforms with the procedures and criteria specified in the FMP and implementing regulations, the Magnuson-Stevens Act, and other applicable law and, therefore, implements the closure effective March 13, 2001. The closure will be effective until the ending dates of the closures in the respective states' waters, but may be ended earlier based on the states' request. In no case will the closure remain effective after June 15, 2001. NMFS will terminate the closure of the EEZ by filing a notification to that effect with the Office of the Federal Register.

During the closure, no person may: (1) trawl for brown, pink, or white shrimp in the EEZ off Georgia or South Carolina; (2) possess on board a fishing vessel brown, pink, or white shrimp in or from the EEZ off Georgia or South Carolina unless the vessel is in transit through the area and all nets with a mesh size of less than 4 inches (10.2 cm) are stowed below deck; or (3) use or have on board a vessel trawling in that part of the EEZ off Georgia or South Carolina that is within 25 nautical miles of the baseline from which the territorial sea is measured a trawl net with a mesh size less than 4 inches (10.2 cm).

Classification

This action responds to the best available information recently obtained from the fishery. The closure must be implemented immediately to protect the severely depleted spawning stock of white shrimp off Georgia and South Carolina and avoid overfishing. This action complements closures already imposed by the respective states. Any delay in implementing this action would be impractical and contradictory to the Magnuson-Stevens Act, the FMP, and the public interest. NMFS finds for good cause, that the implementation of this action cannot be delayed for 30 days. Accordingly, under 5 U.S.C. 553(d), a delay in the effective date is waived.

This action is authorized by 50 CFR 622.35(d) and is exempt from review under Executive Order 12866.

Authority: 16 U.S.C. 1801 et seq.

Dated: March 13, 2001.
Bruce C. Morehead,
Acting Director, Office of Sustainable Fisheries, National Marine Fisheries Service.

[FR Doc. 01-6623 Filed 3-13-01; 4:24 pm]

BILLING CODE 3510-22-S